ENVIRONMENTAL PROTECTION AGENCY

[EPA-HQ-OW-2004-0019; FRL-9934-70-OW]

Extension of Request for Scientific Views on the Draft Aquatic Life Ambient Water Quality Criterion for Selenium—Freshwater 2015

AGENCY: Environmental Protection Agency (EPA).

ACTION: Notice; extension of comment period.

SUMMARY: The Environmental Protection Agency (EPA) is extending the comment period for the Agency's draft recommended aquatic life water quality chronic criterion for selenium in freshwater. The draft criterion was announced in a July 27, 2015 notice entitled “Request for Scientific Views: Draft Recommended Aquatic Life Ambient Water Quality Chronic Criterion for Selenium—Freshwater 2015.” In response to stakeholder requests, EPA is extending the period of time in which the Agency will accept scientific views for an additional 15 days.

DATES: Comments must be received on or before October 10, 2015. Scientific views postmarked after this date may not receive the same consideration. The comment period was originally scheduled to end on September 25, 2015.

ADDRESSES: Written comments on the notice may be submitted to the EPA electronically, by mail, by facsimile or through hand delivery/courier. Please refer to the proposal (80 FR 44350-44354) for the addresses and detailed instructions.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA-HQ-OW-2004-0019 Docket, EPA/DC, William Jefferson Clinton Building West, Room 3334, 1301 Constitution Ave., NW., Washington, DC. The Public Reading Room is open from 8:30 a.m. to 4:30 p.m., Monday through Friday, excluding legal holidays. The telephone number for the Public Reading Room is (202) 566-1744, and the telephone number for the EPA Water Docket is (202) 566-2426.

FOR FURTHER INFORMATION CONTACT: Kathryn Gallagher at U.S. EPA, Office of Water, Health and Ecological Criteria Division (4304T), 1200 Pennsylvania Avenue NW., Washington, DC 20460; telephone: (202) 564-1398; or email: gallagher.kathryn@epa.gov.

SUPPLEMENTARY INFORMATION: On July 27, 2015, EPA announced the availability of the draft recommended aquatic life water quality criterion for selenium in a previous notice entitled “Request for Scientific Views: Draft Recommended Aquatic Life Ambient Water Quality Chronic Criterion for Selenium—Freshwater 2015” in the Federal Register (80 FR 44350). EPA's recommended aquatic life water quality criteria provide technical information for states and authorized tribes to adopt water quality standards under the Clean Water Act to protect aquatic life.

EPA is extending the public comment period for the Draft Aquatic Life Ambient Water Quality Criterion for Selenium—Freshwater 2015 (EPA-822-P-15-001). The original comment deadline was September 25, 2015. This action extends the comment period for 15 days. Written scientific views must now be received by October 10, 2015.

Following closure of the public comment period, EPA will consider the public comments and revise the document as necessary. EPA will then publish a Federal Register notice announcing the availability of the final updated selenium criterion.

Dated: September 18, 2015.
Elizabeth Southerland,
Director, Office of Science and Technology.

[FR Doc. 2015-24310 Filed 9-23-15; 8:45 am]

BILLING CODE 6560-50-P